DEPARTMENT OF TRANSPORTATION

National Highway Traffic Safety Administration

[Docket No. NHTSA-2004-18667; Notice 1]

Reports, Forms and Record Keeping Requirements

AGENCY: National Highway Traffic Safety Administration (NHTSA), DOT.

ACTION: Notice.

SUMMARY: Before a Federal agency can collect certain information from the public, the agency must receive approval from the Office of Management and Budget (“OMB”). Under procedures established by the Paperwork Reduction Act of 1995 (44 U.S.C. 3501 et seq.), before seeking OMB approval, Federal agencies must solicit public comment on proposed collections of information, including extensions and reinstatements of previously approved collections. In compliance with the Paperwork Reduction Act of 1995, this notice describes one collection of information for which NHTSA intends to seek OMB approval.

DATES: Comments must be submitted on or before September 21, 2004.

ADDRESSES: Comments must refer to the docket number cited at the beginning of this notice and be submitted to Docket Management, Room PL-401, 400 Seventh Street, SW., Washington, DC 20590. Please identify the proposed collection of information for which a comment is provided by also addressing its OMB Clearance Number. You may also submit your comments to the docket electronically. Documents may be filed electronically by logging onto the Docket Management System Web site at http://dms.dot.gov. Click on “Help & Information” or “Help/Info” to obtain instructions for filing the document electronically.

Comments may also be submitted by fax at 202-493-2251.

For further assistance, you may call Docket Management at 202-366-1918. You may also visit the Docket and submit comments by hand delivery from 9 a.m. to 5 p.m., Monday through Friday, except on Federal Holidays.

FOR FURTHER INFORMATION CONTACT: For questions contact Michael Kido in the Office of the Chief Counsel at the National Highway Traffic Safety Administration, telephone (202) 366-5263. Please identify the relevant collection of information by referring to its OMB Clearance Number.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following extension of clearance for a currently approved collection of information:

Confidential Business Information

Type of Request—Extension of clearance.

OMB Clearance Number—2127-0025.

Form Number—This collection of information uses no standard forms.

Requested Expiration Date of Approval—Three (3) years from the date of approval of the collection.

Summary of the Collection of Information—Each person who submits information to the agency and seeks to have the agency withhold some or all of that information from disclosure under the Freedom of Information Act (“FOIA”), 5 U.S.C. 552, must provide the agency with sufficient support that justifies the confidential treatment of that information. In addition, a request for confidential treatment must be accompanied by: (1) A complete copy of the submission; (2) a copy of the submission containing only those portions for which confidentiality is not sought with the confidential portions redacted; and (3) either a second complete copy of the submission or alternatively those portions of the submission that contain the information for which confidentiality is sought. Furthermore, the requestor must submit a completed certification as provided in 49 CFR Part 512, Appendix A. See generally 49 CFR Part 512 (NHTSA Confidential Business Information regulations).

Part 512 ensures that information submitted under a claim of confidentiality is properly evaluated in an efficient manner under prevailing legal standards and, where appropriate, accorded confidential treatment. To facilitate the evaluation process, in their requests for confidential treatment, submitters of information may make reference to certain limited classes of information that are presumptively treated as confidential, such as blueprints and engineering drawings, future specific model plans (under limited conditions), and future vehicle production or sales figures for specific models (under limited conditions). Certain other information that the agency collects pursuant to the Early Warning Reporting rule (49 CFR Part 579) is treated confidentially by rule under 49 CFR Part 512, Appendix C and submitters need not provide a request for confidential treatment these classes of information.

Description of the Need for the Information and Use of the Information—NHTSA receives confidential information for use in its activities, which include investigations, rulemaking actions, program planning and management, and program evaluation. The information is needed to ensure the agency has sufficient relevant information for decision-making in connection with these activities. Some of this information is submitted voluntarily, as in rulemaking, and some is submitted in response to compulsory information requests, as in investigations.

Description of the Likely Respondents, Including Estimated Number and Proposed Frequency of Response to the Collection of Information—This collection of information applies to any entity that submits to the agency information that the entity wishes to have withheld from disclosure under the FOIA. Thus, the collection of information applies to any entity that is subject to laws administered by the agency or agency regulations and is under an obligation to provide information to the agency. It also includes entities that voluntarily submit information to the agency. Such entities would include manufacturers of motor vehicles and of motor vehicle equipment. Importers are considered to be manufacturers. It may also include other entities that are involved with motor vehicles or motor vehicle equipment but are not manufacturers.

Estimate of the Total Annual Reporting and Recordkeeping Burdens Resulting from the Collection of Information—3,600 hours.

The agency receives requests for confidential treatment that vary in size from requests that ask the agency to withhold as little as a portion of one page to multiple boxes of documents. NHTSA estimates that it will take on average approximately eight (8) hours for an entity to prepare a submission requesting confidential treatment. This estimate will vary based on the size of the submission, with smaller and voluntary submissions taking considerably less time to prepare. This estimate of the average amount of time per submission is higher than the four hours estimated for the existing information clearance and reflects the volume of documents in some submissions in complex investigations, the amendments to the agency's rules in 2003 and the improved justifications for confidential treatment that followed.

NHTSA estimates that it will receive approximately 450 requests for confidential treatment annually. This figure is based on the number of requests received in the first six months of 2004 (225) multiplied by two (2). We selected this period because in the last year, we have received more requests than in previous years and believe that the most recent data is the most representative of the number of requests that will be submitted. The agency estimates that the total burden for this information collection will be approximately 3,600 hours, which is based on the number of requests (450) multiplied by the estimated number of hours to prepare each submission (8 hours).

Since nothing in the rule requires those persons who request confidential treatment pursuant to Part 512 to keep copies of any records or requests submitted to us, recordkeeping costs imposed would be zero hours and zero costs.

Authority: 44 U.S.C. § 3506; delegation of authority at 49 CFR 1.50.

Issued on: July 19, 2004.
Jacqueline Glassman,
Chief Counsel.

[FR Doc. 04-16841 Filed 7-22-04; 8:45 am]

BILLING CODE 4910-59-P